DEPARTMENT OF HOUSING AND URBAN DEVELOPMENT

[Docket No. FR-5186-N-48]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Director, Air Force Real Property Agency, 143 Billy Mitchell Blvd., San Antonio, TX 78226; (210) 925-3047; Army: Ms. Veronica Rines, Headquarters, Office of the Assistant Chief of Staff for Installation Management, Attn: DAIM-ZS, 2511 Jefferson Davis Hwy., Arlington, VA 22202; (703) 601-2545; COE: Mr. Walter Hylton, Army Corps of Engineers, Office of Counsel, 441 G Street, NW., Washington, DC 20314-1000; (202) 761-7701; Energy: Mr. Mark Price, Department of Energy, Office of Engineering & Construction Management, MA-50, 1000 Independence Ave., SW., Washington, DC 20585: (202) 586-5422; GSA: Mr. John Smith, Deputy Assistant Commissioner, General Services Administration, Office of Property Disposal, 18th & F Streets, NW., Washington, DC 20405; (202) 501-0084; Navy: Mrs. Mary Arndt, Acting Director, Department of the Navy, Real Estate Services, Naval Facilities Engineering Command, Washington Navy Yard, 1322 Patterson Ave., SE., Suite 1000, Washington, DC 20374-5065; (202) 685-9305; (These are not toll-free numbers).

Dated: November 20, 2008.
Mark R. Johnston,
Deputy Assistant Secretary for Special Needs.

Title V, Federal Surplus Property Program Federal Register Report for 11/28/2008

Suitable/Available Properties

Building

California

4 Bldgs.

OTH-B Radar Site

Tulelake CA 91634

Landholding Agency: COE

Property Number: 31200840001

Status: Unutilized

Comments: most recent use—communications/vehicle maint., off-site use only

Georgia

Bldg. 00926

Hunter Army Airfield

Savannah GA 31409

Landholding Agency: Army

Property Number: 21200840061

Status: Excess

Comments: 1752 sq. ft., most recent use—BN, HQ bldg., off-site use only

Bldg. 01021

Hunter Army Airfield

Savannah GA 31409

Landholding Agency: Army

Property Number: 21200840062

Status: Excess

Comments: 6855 sq. ft., most recent use—admin., presence of asbestos, off-site use only

Suitable/Available Properties

Building

Georgia

Bldg. 07335

Fort Stewart

Hinesville GA 31314

Landholding Agency: Army

Property Number: 21200840063

Status: Excess

Comments: 4400 sq. ft., most recent use—chapel, off-site use only

Bldg. 07778

Fort Stewart

Hinesville GA 31314

Landholding Agency: Army

Property Number: 21200840064

Status: Excess

Comments: 1189 sq. ft., most recent use—admin., off-site use only 7 Bldgs.

Fort Stewart

Hinesville GA 31314

Landholding Agency: Army

Property Number: 21200840065

Status: Excess

Directions: 12601, 12602, 12603, 12605, 12606, 12607, 12609

Comments: 2953 sq. ft. each, presence of asbestos, most recent use—barracks, off-site use only

Suitable/Available Properties

Building

Georgia

9 Bldgs.

Fort Stewart

Hinesville GA 31314

Landholding Agency: Army

Property Number: 21200840066

Status: Excess

Directions: 12610, 12611, 12612, 12613, 12614, 12615, 12616, 12617, 12618

Comments: 2953 sq. ft., presence of asbestos, most recent use—barracks, off-site use only

Bldg. 12619

Fort Stewart

Hinesville GA 31314

Landholding Agency: Army

Property Number: 21200840067

Status: Excess

Comments: 3099 sq. ft. presence of asbestos, most recent use—barracks, off-site use only

Bldg. 12682

Fort Stewart

Hinesville GA 31314

Landholding Agency: Army

Property Number: 21200840068

Status: Excess

Comments: 120 sq. ft., presence of asbestos, most recent use—fuel/POL bldg., off-site use only

Suitable/Available Properties

Building

Maine

Bldgs 1, 2, 3, 4

OTH-B Radar Site

Columbia Falls ME

Landholding Agency: Air Force

Property Number: 18200840009

Status: Unutilized

Comments: various sq. ft., most recent use—storage/office

Ohio

2 Bldgs.

Delaware Lake

Delaware OH 43143

Landholding Agency: COE

Property Number: 31200840002

Status: Unutilized

Comments: 936/288 sq. ft., off-site use only

PFC Joe R. Hastings

Army Reserve Center

3120 Parkway Dr.

Canton OH 44708

Landholding Agency: GSA

Property Number: 54200840008

Status: Excess

GSA Number: 1-D-OH-835

Comments: 27,603 sq.ft./admin bldg. & vehicle maint. bldg., presence of asbestos/lead paint/radon/PCBs

Suitable/Available Properties

Building

Oklahoma

Bldgs. 02903, 02941

Fort Sill

Lawton OK 73501

Landholding Agency: Army

Property Number: 21200840069

Status: Unutilized

Comments: 1236 sq. ft. each, most recent use—admin., off-site use only

Texas

6 Bldgs.

Fort Hood

Bell TX 76544

Landholding Agency: Army

Property Number: 21200840070

Status: Excess

Directions: 56412, 57023, 57024, 57025, 57009, 57010

Comments: presence of asbestos, most recent use—storage, off-site use only

9 Bldgs.

Fort Hood

Bell TX 76544

Landholding Agency: Army

Property Number: 21200840071

Status: Excess

Directions: 56529, 56618, 56702, 56710, 56752, 56753, 56754, 56755, 56759

Comments: presence of asbestos, most recent use—dining facility, off-site use only

Suitable/Available Properties

Building

Texas

Bldgs. 56703

Fort Hood

Bell TX 76544

Landholding Agency: Army

Property Number: 21200840072

Status: Excess

Comments: 1306 sq. ft., presence of asbestos, most recent use—shower, off-site use only

Bldg. 57005

Fort Hood

Bell TX 76544

Landholding Agency: Army

Property Number: 21200840073

Status: Excess

Comments: 500 sq. ft., presence of asbestos, most recent use—water supply/treatment, off-site use only

Microwave Antenna Tower Site

353 PR 207

Ivanhoe TX 75447

Landholding Agency: GSA

Property Number: 54200840009

Status: Surplus

GSA Number: 7-D-TX-1104

Comments: 128 sq. ft. on 6.592 acres, most recent use—storage

Suitable/Available Properties

Building

West Virginia

Bldgs. 1, 2

Bluestone Lake & Dam

Hinton WV 25951

Landholding Agency: COE

Property Number: 31200840003

Status: Unutilized

Comments: 1564/1625 sq. ft., presence of asbestos/lead paint, most recent use—residence, off-site use only

Unsuitable Properties

Building

Alabama

Bldgs. 00044, 00164, 00605

Anniston Army Depot

Calhoun AL 36201

Landholding Agency: Army

Property Number: 21200840001

Status: Unutilized

Reasons: Extensive deterioration

Bldgs. 00671, 00678, 00679

Anniston Army Depot

Calhoun AL 36201

Landholding Agency: Army

Property Number: 21200840002

Status: Unutilized

Reasons: Extensive deterioration

Unsuitable Properties

Building

Alabama

Bldgs. 03332, 03768, 4807

Redstone Arsenal

Madison AL 35898

Landholding Agency: Army

Property Number: 21200840003

Status: Unutilized

Reasons: Extensive deterioration

Bldgs. 05452, 05458, 05459

Redstone Arsenal

Madison AL 35898

Landholding Agency: Army

Property Number: 21200840004

Status: Unutilized

Reasons: Extensive deterioration

Bldgs. 06102, 07175, 07380

Redstone Arsenal

Madison AL 35898

Landholding Agency: Army

Property Number: 21200840005

Status: Unutilized

Reasons: Extensive deterioration

Bldgs. 07585, 07727

Redstone Arsenal

Madison AL 35898

Landholding Agency: Army

Property Number: 21200840006

Status: Unutilized

Reasons: Extensive deterioration

Unsuitable Properties

Building

Alabama

Bldgs. 08410, 08600

Redstone Arsenal

Madison AL 35898

Landholding AGENCY: Army

Property Number: 21200840007

Status: Unutilized

Reasons: Extensive deterioration

California

Bldgs. 1412, 2422, 3514

Edwards AFB

Kern CA 93524

Landholding Agency: Air Force

Property Number: 18200840001

Status: Unutilized

Reasons: Secured Area, Extensive deterioration

Bldgs. 00131, 00273

Fort Hunter Liggett

Monterey CA 93928

Landholding Agency: Army

Property Number: 21200840008

Status: Unutilized

Reasons: Secured Area

Unsuitable Properties

Building

California

Bldg. 00117

Riverbank AAP

Stanislaus CA 95367

Landholding Agency: Army

Property Number: 21200840009

Status: Excess

Reasons: Secured Area, Extensive deterioration

Bldgs. 00500, 01187, 01188

Camp Parks

Dublin CA 94568

Landholding Agency: Army

Property Number: 21200840010

Status: Unutilized

Reasons: Extensive deterioration

Bldgs. 01196, 01197

Camp Parks

Dublin CA 94568

Landholding Agency: Army

Property Number: 21200840011

Status: Unutilized

Reasons: Extensive deterioration

Bldgs. 01207, 01208

Camp Parks

Dublin CA 94568

Landholding Agency: Army

Property Number: 21200840012

Status: Unutilized

Reasons: Extensive deterioration

Unsuitable Properties

Building

California

Bldgs. 328, 367, 376 Lawrence Livermore Natl Lab Livermore CA Landholding Agency: Energy

Property Number: 41200840008,

Status: Excess Reasons: Within 2000 ft. of flammable or explosive material, Secured Area

Colorado

7 Bldgs.

Pueblo Chemical Depot

Pueblo CO 81006

Landholding Agency: Army

Property Number: 21200840013

Status: Underutilized

Directions: 00013, 00014, 00015, 00016, 00017, 00018, 00019

Reasons: Secured Area

7 Bldgs.

Pueblo Chemical Depot

Pueblo CO 81006

Landholding Agency: Army

Property Number: 21200840014

Status: Underutilized

Directions: 00020, 00021, 00022, 00023, 00024, 00028, 00029

Reasons: Secured Area

Unsuitable Properties

Building

Florida

Bldg. 82

Air Force Range

Avon Park FL 33825

Landholding Agency: Air Force

Property Number: 18200840002

Status: Unutilized

Reasons: Secured Area, Contamination

Georgia

Bldg. 970

Moody AFB

Lowndes GA 31699

Landholding Agency: Air Force

Property Number: 18200840003

Status: Unutilized

Reasons: Secured Area

5 Bldgs.

Fort Benning

Ft. Benning GA 31905

Landholding Agency: Army

Property Number: 21200840015

Status: Unutilized

Directions: 2580, 2962, 8041, 8042, 8043

Reasons: Secured Area

Unsuitable Properties

Building

Georgia

4 Comfort Stations

Chandlers Ferry Campground

Hartwell GA 30643

Landholding Agency: COE

Property Number: 31200840004

Status: Unutilized

Directions: 16099, 16100, 16101, 16102

Reasons: Extensive deterioration

Comfort Station

Glenns Ferry Campground 16555

Hartwell GA 30643

Landholding Agency: COE

Property Number: 31200840005

Status: Unutilized

Reasons: Extensive deterioration

4 Comfort Stations

Island Point Campground 16920, 16838, 18482, 18483

Hartwell GA

Landholding Agency: COE

Property Number: 31200840006

Status: Unutilized

Reasons: Extensive deterioration

Unsuitable Properties

Building

Hawaii

Bldgs. 01680, 02108, 02109

Schofield Barracks

Wahiawa HI 96786

Landholding Agency: Army

Property Number: 21200840016

Status: Unutilized

Reasons: Secured Area

Indiana

Bldg. 0127A

Fort Ben Harrison

Indianapolis IN 46216

Landholding Agency: Army

Property Number: 21200840017

Status: Excess

Reasons: Secured Area

Kansas

Bldgs. 00321, 00323

Fort Leavenworth

Leavenworth KS 66027

Landholding Agency: Army

Property Number: 21200840018

Status: Unutilized

Reasons: Extensive deterioration

Unsuitable Properties

Building

Kansas

Bldgs. 40013, 51004

Milford Lake

Junction City KS 66441

Landholding Agency: COE

Property Number: 31200840007

Status: Excess

Reasons: Extensive deterioration

Kentucky

5 Bldgs.

Fort Knox

Ft. Knox KY 40121

Landholding Agency: Army

Property Number: 21200840019

Status: Unutilized

Directions: 00058, 00059, 00060, 00072, 00167

Reasons: Extensive deterioration

Bldgs. 01171, 04770

Fort Knox

Ft. Knox KY 40121

Landholding Agency: Army

Property Number: 21200840020

Status: Unutilized

Reasons: Extensive deterioration

Unsuitable Properties

Building

Kentucky

Bldgs. 9277, 9642, 9645, 9659

Fort Knox

Ft. Knox KY 40121

Landholding Agency: Army

Property Number: 21200840021

Status: Unutilized

Reasons: Extensive deterioration

Fr1-01-S-01, Fr1-01-S-06

Fishtrap Lake

Shelbania KY 41562

Landholding Agency: COE

Property Number: 31200840008

Status: Unutilized

Reasons: Extensive deterioration

Maryland

Bldgs. P338, P436, P566

Fort Detrick

Frederick MD 21702

Landholding Agency: Army

Property Number: 21200840023

Status: Unutilized

Reasons: Secured Area

Bldgs. 01423, 01432

Fort Detrick

Frederick MD 21702

Landholding Agency: Army

Property Number: 21200840024

Status: Unutilized

Reasons: Secured Area

Unsuitable Properties

Building

Maryland

10 Bldgs.

Aberdeen Proving Ground

Harford MD 21005

Landholding Agency: Army

Property Number: 21200840025

Status: Unutilized

Directions: E1100, R1101, E1102, E1103, E1104, E1105, E1106, E1107, E1108, E1109

Reasons: Secured Area

10 Bldgs.

Aberdeen Proving Ground

Harford MD 21005

Landholding Agency: Army

Property Number: 21200840026

Status: Unutilized

Directions: E1110, E1111, E1112, E1113, E1114, E1115, E1116, E1117, E1118, E1119

Reasons: Secured Area

10 Bldgs.

Aberdeen Proving Ground

Harford MD 21005

Landholding Agency: Army

Property Number: 21200840027

Status: Unutilized

Directions: E1120, E1121, E1122, E1123, E1124, E1125, E1126, E1127, E1128, E1129

Reasons: Secured Area

Unsuitable Properties

Building

Maryland

10 Bldgs.

Aberdeen Proving Ground

Harford MD 21005

Landholding Agency: Army

Property Number: 21200840028

Status: Unutilized

Directions: E1130, E1131, E1132, E1133, E1134, E1135, E1136, E1137, E1138, E1139

Reasons: Secured Area

10 Bldgs.

Aberdeen Proving Ground

Harford MD 21005

Landholding Agency: Army

Property Number: 21200840029

Status: Unutilized

Directions: E1140, E1141, E1142, E1143, E1144, E1145, E1146, E1147, E1148, E1149

Reasons: Secured Area

6 Bldgs.

Aberdeen Proving Ground

Harford MD 21005

Landholding Agency: Army

Property Number: 21200840030

Status: Unutilized

Directions: E1150, E1151, E1152, E1153, E1154, E1155

Reasons: Secured Area

Unsuitable Properties

Building

Maryland

Bldgs. 03062, 3070B

Aberdeen Proving Ground

Harford MD 21005

Landholding Agency: Army

Property Number: 21200840031

Status: Unutilized

Reasons: Secured Area

7 Bldgs.

Aberdeen Proving Ground

Harford MD 21005

Landholding Agency: Army

Property Number: 21200840032

Status: Unutilized

Directions: 05015, 5015A, 05040, 05041, 05049, 05050, 05051

Reasons: Secured Area

5 Bldgs.

Aberdeen Proving Ground

Harford MD 21005

Landholding Agency: Army

Property Number: 21200840033

Status: Unutilized

Directions: 05220, 05221, 05222, 05224, 05613

Reasons: Secured Area

Unsuitable Properties

Building

Massachusetts

Bldg. 3713

USAG Devens

Devens MA 01434

Landholding Agency: Army

Property Number: 21200840022

Status: Excess

Reasons: Secured Area

Missouri

Bldg. 528

Weldon Springs LTA

Saint Charles MO 63304

Landholding Agency: Army

Property Number: 21200840034

Status: Unutilized

Reasons: Extensive deterioration

5 Bldgs.

Fort Leonard Wood

Pulaski MO 65473

Landholding Agency: Army

Property Number: 21200840035

Status: Unutilized

Directions: 05360, 05361, 05367, 05368, 05369

Reasons: Secured Area

Unsuitable Properties

Building

Missouri

6 Bldgs.

Fort Leonard Wood

Pulaski MO 65473

Landholding Agency: Army

Property Number: 21200840036

Status: Unutilized

Directions: 05370, 05371, 05372, 05373, 05374, 05376

Reasons: Secured Area

9 Bldgs.

Fort Leonard Wood

Pulaski MO 65473

Landholding Agency: Army

Property Number: 21200840037

Status: Unutilized

Directions: 06120, 06124, 06125, 06128, 06129, 06130, 06131, 06133, 06135

Reasons: Secured Area

Bldgs. 23002, 23006

Masters Park

Stockton MO 65785

Landholding Agency: COE

Property Number: 31200840009

Status: Excess

Reasons: Extensive deterioration

Unsuitable Properties

Building

Missouri

Bldgs. 50014, 50015

Ruark Bluff West

Stockton MO 65785

Landholding Agency: COE

Property Number: 31200840010

Status: Excess

Reasons: Extensive deterioration

New Jersey

Bldgs. 00647, 1222B

Picatinny Arsenal

Dover NJ 07806

Landholding Agency: Army

Property Number: 21200840038

Status: Unutilized

Reasons: Secured Area, Extensive deterioration

Bldgs. 3349, 3350, 3352, 3353

Picatinny Arsenal

Dover NJ 07806

Landholding Agency: Army

Property Number: 21200840039

Status: Unutilized

Reasons: Secured Area, Extensive deterioration

Unsuitable Properties

Building

New Mexico

5 Bldgs.

Holloman AFB

Otero NM 88330

Landholding Agency: Air Force

Property Number: 18200840004

Status: Unutilized

Directions: 1201, 1202, 1203, 1205, 1207

Reasons: Secured Area

New York

6 Bldgs.

Fort Drum

Jefferson NY 13602

Landholding Agency: Army

Property Number: 21200840040

Status: Unutilized

Directions: 20V01, 20V02, M209A, M209B, M210A, M210B

Reasons: Secured Area

Bldgs. 296, 297, 298

Fort Drum

Jefferson NY 13602

Landholding Agency: Army

Property Number: 21200840041

Status: Unutilized

Reasons: Secured Area

Unsuitable Properties

Building

New York

Bldgs. 0592, 2507, 2509, 21639

Fort Drum

Jefferson NY 13602

Landholding Agency: Army

Property Number: 21200840042

Status: Unutilized

Reasons: Extensive deterioration, Secured Area

Bldgs. 0134, 0136, 0139, 0142

U.S. Garrison

West Point NY 10996

Landholding Agency: Army

Property Number: 21200840043

Status: Underutilized

Reasons: Secured Area

North Carolina

7 Bldgs.

Fort Bragg

Cumberland NC 28310

Landholding Agency: Army

Property Number: 21200840044

Status: Unutilized

Directions: 21559, 21653, 21755, 21757, 21859, 21862, 21957

Reasons: Secured Area, Extensive deterioration

Unsuitable Properties

Building

North Carolina

4 Bldgs.

Fort Bragg

Cumberland NC 28310

Landholding Agency: Army

Property Number: 21200840045

Status: Unutilized

Directions: 22053, 22055, 22059, 82714

Reasons: Secured Area, Extensive deterioration

Ohio

Bldgs. 19, 30, 41, 42

Defense Supply Center

Columbus OH 43218

Landholding Agency: Army

Property Number: 21200840046

Status: Unutilized

Reasons: Secured Area, Extensive deterioration

Unsuitable Properties

Building

Oklahoma

4 Bldgs.

Fort Sill

Lawton OK 73501

Landholding Agency: Army

Property Number: 21200840047

Status: Unutilized

Directions: M5680, M5681, M5682, M5683

Reasons: Extensive deterioration

Bldg. FTGIBS-57431

Fort Gibson

Fort Gibson OK

Landholding Agency: COE

Property Number: 31200840011

Status: Unutilized

Reasons: Extensive deterioration

Pennsylvania

Bldg. 00017

Scranton Army Ammo Plant

Scranton PA 18505

Landholding Agency: Army

Property Number: 21200840048

Status: Unutilized

Reasons: Secured Area, Extensive deterioration

Unsuitable Properties

Building

Puerto Rico

Bldgs. 148, 380, 381, 386

Fort Buchanan

Guaynabo PR 00934

Landholding Agency: Army

Property Number: 21200840049

Status: Excess

Reasons: Extensive deterioration

Tennessee

Bldgs. 7201, 7297

Fort Campbell

Montgomery TN 42223

Landholding Agency: Army

Property Number: 21200840050

Status: Unutilized

Reasons: Secured Area, Within airport runway clear zone, Extensive deterioration

Bldg. W005A

Milan AAP

Gibson TN 38358

Landholding Agency: Army

Property Number: 21200840051

Status: Excess

Reasons: Secured Area, Within 2000 ft. of flammable or explosive material, Extensive deterioration

Unsuitable Properties

Building

Texas

5 Bldgs.

Dyess AFB

Abilene TX 79607

Landholding Agency: Air Force

Property Number: 18200840005

Status: Unutilized

Directions: B-4003, 4120, B-4124, 4127, 4130

Reasons: Secured Area

4 Bldgs.

Dyess AFB

Abilene TX 79607

Landholding Agency: Air Force

Property Number: 18200840006

Status: Unutilized

Directions: 7225, 7226, 7227, 7313

Reasons: Secured Area

4 Bldgs.

Dyess AFB

Abilene TX 79607

Landholding Agency: Air Force

Property Number: 18200840007

Status: Unutilized

Directions: 8050, 8054, 8129, 8133

Reasons: Secured Area

Unsuitable Properties

Building

Texas

5 Bldgs.

Dyess AFB

Abilene TX 79607

Landholding Agency: Air Force

Property Number: 18200840008

Status: Unutilized

Directions: B-9032, 9107, 9114, B-9140, 11900

Reasons: Secured Area

Bldg. 11007

Fort Bliss

El Paso TX 79916

Landholding AGENCY: Army

Property Number: 21200840052

Status: Unutilized

Reasons:

Extensive deterioration

4 Bldgs. Burns Run Area

Texoma Lake 57667, 42562, 42486, 42568

Denison TX

Landholding Agency:

COE

Property Number: 31200840012

Status: Unutilized

Reasons: Extensive deterioration

Unsuitable Properties

Building

Utah

8 Bldgs.

Tooele Army Depot

Tooele UT 84074

Landholding Agency: Army

Property Number: 21200840053

Status: Unutilized

Directions: 0108, 0109, 0110, 0112, 0114, 0116, 0139, 0143

Reasons: Secured Area

Virginia

Bldg. C0903

Fort A.P. Hill

Bowling Green VA 22427

Landholding Agency: Army

Property Number: 21200840054

Status: Unutilized

Reasons: Extensive deterioration

Bldg. 10502

Fort Lee

Prince George VA 23801

Landholding Agency: Army

Property Number: 21200840055

Status: Unutilized

Reasons: Secured Area, Extensive deterioration

Unsuitable Properties

Building

Virginia

Bldgs. 00187, 00189, 00707

Fort Belvoir

Fairfax VA 22060

Landholding Agency: Army

Property Number: 21200840056

Status: Underutilized

Reasons: Secured Area

Bldgs. 00025, S0044

Defense Supply Center

Richmond VA 23297

Landholding Agency: Army

Property Number: 21200840057

Status: Unutilized

Reasons: Secured Area

Bldg. JHK-16754

Henderson Point

Mecklenburg VA 23917

Landholding Agency: COE

Property Number: 31200840013

Status: Unutilized

Reasons: Extensive deterioration

Bldg. NAB757

Naval Amphibious Little Creek

Norfolk VA

Landholding Agency: Navy

Property Number: 77200840008

Status: Unutilized

Reasons: Secured Area

Unsuitable Properties

Building

Virginia

19 Ammunition Bunkers

Naval Weapon Station

Ammo Plant 1 & 2

Yorktown VA 23691

Landholding Agency: Navy

Property Number: 77200840009

Status: Excess

Reasons: Secured Area, Extensive deterioration

Washington

Bldg. P406

Vancouver Barracks

Vancouver WA 98661

Landholding Agency: Army

Property Number: 21200840058

Status: Unutilized

Reasons: Secured Area, Extensive deterioration

Bldg. 03102

Fort Lewis

Pierce WA 98433

Landholding Agency: Army

Property Number: 21200840059

Status: Underutilized

Reasons: Secured Area

Unsuitable Properties

Building

Wisconsin

10 Bldgs.

Fort McCoy

Monroe WI 54654

Landholding Agency: Army

Property Number: 21200840060

Status: Unutilized

Directions: 2745, 2752, 2753, 2758, 2759, 2846, 2851, 2856, 2861, 8039

Reasons: Extensive deterioration

[FR Doc. E8-28066 Filed 11-26-08; 8:45 am]

BILLING CODE 4210-67-P